DEPARTMENT OF ENERGY

Federal Energy Regulatory Commission

Combined Notice of Filings #1

Take notice that the Commission received the following electric rate filings:

Docket Numbers: ER15-1875-001.

Applicants: California Independent System Operator Corporation.

Description: Compliance filing: 2015-09-15 Limited Tariff Waiver Petition to Modify CCE2 Effective Date to be effective N/A.

Filed Date: 9/15/15.

Accession Number: 20150915-5182.

Comments Due: 5 p.m. ET 10/6/15.

Docket Numbers: ER15-2204-001.

Applicants: California Independent System Operator Corporation.

Description: Compliance filing: 2015-09-15 Limited Tariff Waiver Petition to Modify ETC-TOR Effective Date to be effective N/A.

Filed Date: 9/15/15.

Accession Number: 20150915-5166.

Comments Due: 5 p.m. ET 10/6/15.

Docket Numbers: ER15-2654-000.

Applicants: Midcontinent Independent System Operator, Inc.

Description: § 205(d) Rate Filing: 2015-09-15_SA 2753 NSP-Red Pine Wind 2nd Rev GIA (H081) to be effective 9/16/2015.

Filed Date: 9/15/15.

Accession Number: 20150915-5071.

Comments Due: 5 p.m. ET 10/6/15.

Docket Numbers: ER15-2655-000.

Applicants: Midcontinent Independent System Operator, Inc.

Description: § 205(d) Rate Filing: 2015-09-15_SA 2830 Certificate of Concurrence ITCM, METC, and ATSI TIA to be effective 12/7/2015.

Filed Date: 9/15/15.

Accession Number: 20150915-5078.

Comments Due: 5 p.m. ET 10/6/15.

Docket Numbers: ER15-2656-000.

Applicants: Midcontinent Independent System Operator, Inc.

Description: Annual Calculation of the Cost of New Entry value (“CONE”) for each Local Resource Zone (“LRZ”) in the MISO Region of Midcontinent Independent System Operator, Inc.

Filed Date: 9/15/15.

Accession Number: 20150915-5196.

Comments Due: 5 p.m. ET 10/6/15.

Take notice that the Commission received the following electric reliability filings:

Docket Numbers: RR15-19-000.

Applicants: North American Electric Reliability Corporation.

Description: Petition of the North American Electric Reliability Corporation for Approval of Amendments to Exhibit B to the Delegation Agreement with Southwest Power Pool, Inc. ? Amendments to Southwest Power Pool, Inc.'s Bylaws.

Filed Date: 9/16/15.

Accession Number: 20150916-5031.

Comments Due: 5 p.m. ET 10/7/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 16, 2015.
Nathaniel J. Davis, Sr.,
Deputy Secretary.

[FR Doc. 2015-23984 Filed 9-21-15; 8:45 am]

BILLING CODE 6717-01-P